DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding Source(s) | Location of referenced elevation | # Depth in feet above ground modified * Elevation in feet (NGVD) + Elevation in feet (NAVD) | Communities affected
Grafton County, New Hampshire (All Jurisdictions)
Docket No.: FEMA-D-7672
Ammonoosuc River | At the mouth of Ammonoosuc River | *428 | Towns of Haverhill, Lisbon, Landaff, and Bethlehem.
| Approximately 1.14 miles upstream of Littleton Dam in the Town of Littleton | *878
Canaan Street Lake | Entire shoreline | *1,146 | Town of Canaan.
Connecticut River | Approximately 2.85 miles downstream of State Route 25 (Bradford—Piermont bridge) | *411 | Town of Piermont.
| Approximately 1.48 miles downstream of Bedell Covered Bridge | *414
Eastman Pond | Entire shoreline | *1,110 | Town of Enfield.
Hewes Brook | Approximately 1,700 feet downstream of upstream crossing of Goose Pond Road | *696 | Town of Hanover.
| At downstream side of upstream crossing of Goose Pond Road | *706
Pemigewasset River | Approximately 1.41 miles upstream of confluence of Webster Pond Outlet | *476 | Town of Ashland.
| Approximately 1.17 miles downstream of Bridge Street | *483
Squam Lake | Entire shoreline | *565 | Town of Holderness.
# Depth in feet above ground.
* National Geodetic Vertical Datum.
+ North American Vertical Datum.
ADDRESSES
Town of Ashland
Maps are available for inspection on the GRANIT's (Geographically Referenced Analysis and Information Transfer System) web site at http://www.granit.sr.unh.edu/dfirms.
Town of Bethlehem
Maps are available for inspection on the GRANIT's (Geographically Referenced Analysis and Information Transfer System) website at http://www.granit.sr.unh.edu/dfirms.
Town of Canaan
Maps are available for inspection on the GRANIT's (Geographically Referenced Analysis and Information Transfer System) website at http://www.granit.sr.unh.edu/dfirms.
Town of Enfield
Maps are available for inspection on the GRANIT's (Geographically Referenced Analysis and Information Transfer System) website at http://www.granit.sr.unh.edu/dfirms.
Town of Hanover
Maps are available for inspection on the GRANIT's (Geographically Referenced Analysis and Information Transfer System) website at http://www.granit.sr.unh.edu/dfirms.
Town of Haverhill
Maps are available for inspection on the GRANIT's (Geographically Referenced Analysis and Information Transfer System) website at http://www.granit.sr.unh.edu/dfirms.
Town of Holderness
Maps are available for inspection on the GRANIT's (Geographically Referenced Analysis and Information Transfer System) website at http://www.granit.sr.unh.edu/dfirms.
Town of Landiff
Maps are available for inspection on the GRANIT's (Geographically Referenced Analysis and Information Transfer System) website at http://www.granit.sr.unh.edu/dfirms.
Town of Lisbon
Maps are available for inspection on the GRANIT's (Geographically Referenced Analysis and Information Transfer System) website at http://www.granit.sr.unh.edu/dfirms.
Town of Piermont
Maps are available for inspection on the GRANIT's (Geographically Referenced Analysis and Information Transfer System) website at http://www.granit.sr.unh.edu/dfirms.
Cleveland County, North Carolina and Incorporated Areas
Docket No.: FEMA-B-7711
Adams Branch | At the confluence with Knob Creek (into First Broad River) | +890 | Cleveland County (Unincorporated Areas), Town of Belwood.
| Approximately 50 feet upstream of Woodrow Hoyle Road (State Road 1624) | +1,018
Tributary 1 | At the confluence with Adams Branch | +904 | Cleveland County (Unincorporated Areas).
| Approximately 1.2 miles upstream of the confluence of Adams Branch | +983
Ashworth Creek | At the confluence with Broad River | +669 | Cleveland County (Unincorporated Areas).
| At the North Carolina/South Carolina State boundary | +788
Tributary 5 | At the confluence with Ashworth Creek | +763 | Cleveland County (Unincorporated Areas).
| Approximately 600 feet upstream of Wood Road | +780
Bald Knob Creek | At the confluence with Little Knob Creek | +946 | Cleveland County (Unincorporated Areas).
| Approximately 100 feet upstream of Pruitt Road | +1,012
Beams Lake | Approximately 275 feet upstream of the confluence with Hickory Creek (near Shelby) | +735 | City of Shelby.
| Approximately 260 feet upstream of the Dam | +801
Beason Creek | At the confluence with Buffalo Creek | +621 | Cleveland County (Unincorporated Areas), City of Kings Mountain.
| Approximately 1,540 feet upstream of Marion Street | +913
Tributary 1 | At the confluence of Beason Creek | +633 | Cleveland County (Unincorporated Areas).
| Approximately 600 feet upstream of the confluence with Beason Creek | +639
Tributary 18 | At the confluence with Beason Creek | +851 | City of Kings Mountain.
| Approximately 955 feet upstream of the confluence with Beason Creek | +864
Beaverdam Creek (near Boiling Springs) | At the confluence with First Broad River | +642 | Cleveland County (Unincorporated Areas), Town of Boiling Springs.
| Approximately 170 feet upstream of Railroad | +863
Tributary 11 | At the confluence with Beaverdam Creek (near Boiling Springs) | +729 | Cleveland County (Unincorporated Areas), City of Shelby.
| Approximately 1,640 feet upstream of West Dixon Boulevard/U.S. Route 74 | +782
Tributary 6 | At the confluence with Beaverdam Creek (near Boiling Springs) | +700 | Cleveland County (Unincorporated Areas), Town of Boiling Springs.
| Approximately 40 feet upstream of East Homestead Avenue | +782
Big Harris Creek | At the confluence with First Broad River | +754 | Cleveland County (Unincorporated Areas).
| Approximately 410 feet upstream of Harris Creek Road | +857
Bowens River | At the North Carolina/South Carolina State boundary | +656 | Cleveland County (Unincorporated Areas).
| Approximately 1.0 mile upstream of Nickey Sharts Road | +726
Broad River | At the North Carolina/South Carolina State boundary | +628 | Cleveland County (Unincorporated Areas).
| At the confluence of Second Broad River | +680
Brushy Creek | At the confluence with First Broad River | +699 | Cleveland County (Unincorporated Areas), City of Shelby, Town of Kingstown.
| Approximately 0.5 mile upstream of the confluence of West Fork Brushy Creek | +871
Tributary 6 | At the confluence with Brushy Creek Tributary 6 | +752 | Cleveland County (Unincorporated Areas).
| Approximately 820 feet upstream of Barbee Road | +780
Tributary 17 | At the confluence with Brushy Creek | +822 | Cleveland County (Unincorporated Areas).
| Approximately 0.6 mile upstream of the confluence with Brushy Creek | +841
Tributary 6 | At the confluence with Brushy Creek | +744 | Cleveland County (Unincorporated Areas), City of Shelby.
| Approximately 540 feet upstream of West Zion Church Road | +841
Buck Branch (into West Fork Sandy Run) | At the confluence with West Fork Sandy Run | +801 | Cleveland County (Unincorporated Areas).
| Approximately 1,000 feet upstream of the confluence with West Fork Sandy Run | +803
Buffalo Creek | Approximately 0.5 mile downstream of the North Carolina/South Carolina State boundary | +595 | Cleveland County (Unincorporated Areas), City of Kings Mountain, City of Shelby, Town of Belwood.
| Approximately 0.9 mile upstream of the confluence of Buffalo Creek Tributary 5 | +1,015
Tributary 2 | At the confluence with Buffalo Creek | +607 | Cleveland County (Unincorporated Areas).
| Approximately 0.6 mile upstream of the confluence with Buffalo Creek | +631
Tributary 3 | At the confluence with Buffalo Creek | +611 | Cleveland County (Unincorporated Areas).
| Approximately 1.2 miles upstream of Roseborough Road | +678
Tributary 4 | At the confluence with Buffalo Creek | +662 | Cleveland County (Unincorporated Areas).
| Approximately 80 feet upstream of Borders Road | +732
Camp Creek | At the confluence with Broad River | +651 | Cleveland County (Unincorporated Areas).
| Approximately 0.4 mile upstream of Abes Mountain Road | +707
Church Branch | At the confluence with Sandy Run | +706 | Cleveland County (Unincorporated Areas), Town of Boiling Springs.
| Approximately 0.7 mile upstream of the confluence of Sandy Run | +717
Cove Creek (into Wards Creek) | At the confluence with Ward Creek | +990 | Cleveland County (Unincorporated Areas).
| Approximately 420 feet upstream of Brackett Hill Road | +1,063
Cox Creek | At the confluence with Ward Creek | +947 | Cleveland County (Unincorporated Areas).
| Approximately 0.9 mile upstream of the confluence with Ward Creek | +993
Crooked Run Creek | At the confluence with First Broad River | +816 | Cleveland County (Unincorporated Areas), Town of Casar.
| Approximately 1.4 miles upstream of Grady McNeilly Road | +1,077
Dark Hollow Branch | At the confluence with Hinton Creek | +888 | Cleveland County (Unincorporated Areas).
| Approximately 0.4 mile upstream of the confluence with Hinton Creek | +894
Dixon Branch | At the North Carolina/South Carolina State boundary | +687 | Cleveland County (Unincorporated Areas).
| Approximately 1,110 feet upstream of Dixon School Road | +720
Duncans Creek | At the confluence with First Broad River | +882 | Cleveland County (Unincorporated Areas).
| Approximately 0.5 mile upstream of Brooks Chapel Road | +914
First Broad River | At the confluence with Broad River | +633 | Cleveland County (Unincorporated Areas), City of Shelby, Town of Lawndale.
| Approximately 1.6 miles upstream of Moriah Church Road | +933
Tributary 19 | At the confluence with First Broad River | +691 | Cleveland County (Unincorporated Areas), City of Shelby.
| Approximately 90 feet downstream of West Dixon Boulevard/Bypass 74 | +799
Tributary 20 | At the confluence with First Broad River | +693 | Cleveland County (Unincorporated Areas), City of Shelby.
| Approximately 0.5 mile upstream of the confluence with First Broad River | +697
Tributary 23 | At the confluence with First Broad River | +705 | City of Shelby.
| Approximately 240 feet upstream of Kingsbury Street | +767
Tributary 30 | At the confluence with First Broad River | +733 | Cleveland County (Unincorporated Areas).
| Approximately 1,480 feet upstream of North Lafayette Street | +733
Tributary 5 | At the confluence with First Broad River | +646 | Cleveland County (Unincorporated Areas).
| Approximately 60 feet upstream of Red Road | +661
Tributary of Tributary 19 | At the confluence with First Broad River Tributary 19 | +777 | City of Shelby.
| Approximately 150 feet upstream of Gardner Street | +837
Flint Hill Creek | At the confluence with Hinton Creek | +874 | Cleveland County (Unincorporated Areas).
| Approximately 40 feet upstream of Hollis Road | +910
Gilliam Creek | At the confluence with Muddy Fork | +783 | Cleveland County (Unincorporated Areas).
| Approximately 150 feet downstream of Gilliam Creek Tributary 2 | +809
Tributary 1 | At the confluence with Gilliam Creek | +786 | Cleveland County (Unincorporated Areas).
| Approximately 1,700 feet upstream of Old Post Road | +814
Tributary 2 | Approximately 600 feet upstream of the confluence with Gilliam Creek | +811 | Cleveland County (Unincorporated Areas).
| Approximately 780 feet upstream of Marys Grove Road | +818
Glenn Creek | At the confluence with Buffalo Creek | +889 | Cleveland County (Unincorporated Areas), Town of Bellwood.
| At the Lincoln/Cleveland County boundary | +898
Grassy Branch | At the confluence with First Broad River | +819 | Cleveland County (Unincorporated Areas), Town of Polkville.
| Approximately 270 feet downstream of Enid Street | +1,045
Grog Creek | At the confluence with Sandy Run | +679 | Cleveland County (Unincorporated Areas).
| Approximately 1.0 mile upstream of Grog Creek Tributary 9 | +833
Tributary 9 | At the confluence with Grog Creek | +808 | Cleveland County (Unincorporated Areas).
| Approximately 0.4 mile upstream of Gantts Grove Church Road | +840
Grover Tributary | Approximately 0.3 mile upstream of the confluence with Buffalo Creek | +620 | Cleveland County (Unincorporated Areas), Town of Grover.
| Approximately 2.1 miles upstream of Bethlehem Church Road | +930
Hawkins Branch | At the confluence with Beaverdam Creek (near Boiling Springs) | +642 | Cleveland County (Unincorporated Areas).
| Approximately 700 feet upstream of Beaverdam Creek (near Boiling Springs) | +642
Hickory Creek (near Shelby) | At the confluence with First Broad River | +676 | Cleveland County (Unincorporated Areas), City of Shelby.
| Approximately 0.4 mile upstream of Airport Road | +842
Tributary 12 | At the confluence with Hickory Creek (near Shelby) | +795 | City of Shelby.
| Approximately 560 feet upstream of Wendover Heights Drive | +869
Tributary 8 | At the confluence with Hickory Creek (near Shelby) | +741 | City of Shelby.
| Approximately 1,100 feet upstream of Weathers Street | +848
Tributary 9 | At the confluence with Hickory Creek (near Shelby) | +747 | City of Shelby.
| Approximately 0.4 mile upstream of Country Club Circle | +784
Tributary of Tributary of Tributary 9 | At the confluence with Hickory Creek (near Shelby) Tributary 9 | +762 | City of Shelby.
| Approximately 1,000 feet upstream of the confluence with Hickory Creek Tributary 9 | +770
Tributary of Tributary 9 | At the confluence with Hickory Creek (near Shelby) Tributary of Tributary 9 | +764 | City of Shelby.
| Approximately 650 feet upstream of confluence with Hickory Creek (near Shelby) Tributary of Tributary 9 | +768
Hinton Creek | At the confluence with First Broad River | +860 | Cleveland County (Unincorporated Areas).
| Approximately 0.9 mile upstream of Stroud Road | +979
Tributary 8 | At the confluence with Hinton Creek | +909 | Cleveland County (Unincorporated Areas).
| Approximately 150 feet upstream of Tan Yard Road | +943
Jolly Branch | At the confluence with Broad River | +646 | Cleveland County (Unincorporated Areas).
| Approximately 0.6 mile upstream of the confluence with Broad River | +669
Kings Creek | Approximately 860 feet downstream of the North Carolina/South Carolina State boundary | +689 | Cleveland County (Unincorporated Areas), City of Kings Mountain.
| Approximately 600 feet upstream of Interstate 85 | +788
Tributary 6 | At the confluence with Kings Creek | +748 | Cleveland County (Unincorporated Areas), City of Kings Mountain.
| Approximately 890 feet upstream of Interstate 85 | +841
Kings Mountain Reservoir | Entire shoreline | +740 | Cleveland County (Unincorporated Areas), City of Kings Mountain.
Knob Creek (into First Broad River) | At the confluence with First Broad River | +806 | Cleveland County (Unincorporated Areas), Town of Belwood.
| Approximately 590 feet upstream of the confluence of Knob Creek (into First Broad River) Tributary 5 | +1,002
Tributary 3 | At the confluence with Knob Creek (into First Broad River) | +945 | Cleveland County (Unincorporated Areas).
| Approximately 760 feet upstream of the confluence with Knob Creek (into First Broad River) | +951
Tributary 5 | At the confluence with Knob Creek (into First Broad River) | +990 | Cleveland County (Unincorporated Areas).
| Approximately 930 feet upstream of the confluence with Knob Creek (into First Broad River) | +1,005
Lick Branch | At the confluence with Buffalo Creek | +603 | Cleveland County (Unincorporated Areas).
| Approximately 50 feet downstream of Watterson Road | +733
Little Buffalo Creek | At the confluence with Buffalo Creek | +835 | Cleveland County (Unincorporated Areas).
| Approximately 60 feet upstream of East Stage Coach Trail | +854
Little Creek | At the confluence with Glenn Creek | +891 | Town of Belwood.
| At the Lincoln/Cleveland County boundary | +961
Little Harris Creek | At the confluence with Big Harris Creek | +760 | Cleveland County (Unincorporated Areas).
| Approximately 440 feet upstream of West Double Shoals Road | +801
Little Hickory Creek | At the confluence with Hickory Creek (near Shelby) | +711 | Cleveland County (Unincorporated Areas), City of Shelby.
| Approximately 0.4 mile upstream of Duck Pond Road | +821
Little Knob Creek | At the confluence with Knob Creek (into First Broad River) | +853 | Cleveland County (Unincorporated Areas).
| At the confluence of Bald Knob Creek | +946
Little Persimmon Creek | At the confluence with Persimmon Creek | +715 | Cleveland County (Unincorporated Areas), City of Kings Mountain.
| Approximately 0.4 mile upstream of Brook Road | +872
Logan Branch | At the confluence with Sulpher Springs Branch | +719 | Cleveland County (Unincorporated Areas).
| Approximately 0.4 mile upstream of Ellis Road | +743
Long Branch (into Beason Creek) | At the confluence with Beason Creek | +656 | Cleveland County (Unincorporated Areas), City of Kings Mountain.
| Approximately 2.4 miles upstream of Bethlehem Church Road | +826
Long Branch (into Buffalo Creek) | At the confluence with Buffalo Creek | +807 | Cleveland County (Unincorporated Areas).
| Approximately 275 feet downstream of Jim Elliott Road | +834
Long Creek | At the confluence with Buffalo Creek | +759 | Cleveland County (Unincorporated Areas).
| Approximately 1.5 miles upstream of Arlee Drive | +937
Mangess Creek | At the confluence with First Broad River | +766 | Cleveland County (Unincorporated Areas).
| Approximately 240 feet upstream of Philadelphia Road | +832
Tributary 3 | At the confluence with Mangess Creek | +803 | Cleveland County (Unincorporated Areas).
| Approximately 120 feet upstream of Selkirk Drive | +857
Mayne Creek | At the confluence with Sandy Run. | +778 | Cleveland County (Unincorporated Areas).
| Approximately 900 feet upstream of Padgett Road | +821
Tributary 3 | At the confluence with Mayne Creek | +789 | Cleveland County (Unincorporated Areas).
| Approximately 0.3 mile upstream of West Zion Church Road | +855
Tributary of Tributary 3 | At the confluence with Mayne Creek Tributary 3 | +797 | Cleveland County (Unincorporated Areas).
| Approximately 350 feet downstream of West Zion Church Road | +855
Muddy Fork | At the confluence with Buffalo Creek | +658 | Cleveland County (Unincorporated Areas).
| At the Gaston/Cleveland County boundary | +828
Tributary | At the confluence with Muddy Fork | +746 | Cleveland County (Unincorporated Areas).
| Approximately 100 feet upstream of Beattie Road | +877
Tributary 5 | At the confluence with Muddy Fork | +816 | Cleveland County (Unincorporated Areas).
| Approximately 100 feet downstream of Doc Wehunt Road | +818
No Business Creek | At the confluence with First Broad River | +910 | Cleveland County (Unincorporated Areas).
| Approximately 30 feet upstream of Moriah School Road | +1,032
Persimmon Creek | At the confluence with Muddy Fork | +708 | Cleveland County (Unincorporated Areas).
| Approximately 60 feet upstream of Rollingbrook Road | +824
Poplar Branch | At the confluence with Beaverdam Creek (near Boiling Springs) | +673 | Cleveland County (Unincorporated Areas), Town of Boiling Springs.
| Approximately 260 feet upstream of Patrick Avenue | +745
Potts Creek | At the confluence with Muddy Fork | +659 | Cleveland County (Unincorporated Areas), City of Kings Mountain.
| Approximately 1,100 feet upstream of Waco Road | +886
Tributary 11 | At the confluence with Potts Creek | +859 | City of Kings Mountain.
| Approximately 0.4 mile upstream of the confluence with Potts Creek | +881
Tributary 6 | At the confluence with Potts Creek | +737 | Cleveland County (Unincorporated Areas), City of Kings Mountain.
| Approximately 500 feet upstream of the confluence with Potts Creek | +739
Poundingmill Creek | At the confluence with Knob Creek (into First Broad River) | +910 | Cleveland County (Unincorporated Areas).
| Approximately 150 feet upstream of Boyles Road | +1,027
Sandy Run | At the confluence with Broad River | +659 | Cleveland County (Unincorporated Areas), Town of Boiling Springs, Town of Mooresboro.
| Approximately 0.5 mile upstream of Mooresboro Road | +835
Tributary 12 | At the confluence with Sandy Run | +726 | Cleveland County (Unincorporated Areas), Town of Boiling Springs.
| Approximately 0.6 mile upstream of Sandy Run Church Road | +792
Tributary 2 | At the confluence with Sandy Run | +668 | Cleveland County (Unincorporated Areas).
| Approximately 0.6 mile upstream of the confluence of Sandy Run | +690
Tributary 21 | At the confluence with Sandy Run | +748 | Cleveland County (Unincorporated Areas).
| Approximately 1,750 feet upstream of West Dixon Boulevard/U.S. Route 74 | +803
Second Broad River | At the confluence with Broad River | +680 | Cleveland County (Unincorporated Areas).
| Approximately 0.5 mile upstream of the confluence with Broad River | +681
Shoal Creek (into First Broad River) | At the confluence with First Broad River | +649 | Cleveland County (Unincorporated Areas).
| Approximately 0.4 mile upstream of Bear Creek Road | +741
Sipe Creek | At the confluence with Kings Creek | +758 | Cleveland County (Unincorporated Areas), City of Kings Mountain.
| Approximately 270 feet upstream of Horseshoe Lane | +782
Stoney Run Creek | At the confluence with First Broad River | +834 | Cleveland County (Unincorporated Areas).
| Approximately 1.0 mile upstream of the confluence with First Broad River | +863
Suck Creek (into Broad River) | At the confluence with Broad River | +676 | Cleveland County (Unincorporated Areas).
| Approximately 0.5 mile upstream of McCraw Road (State Road 1002) | +770
Suck Creek (into Buffalo Creek) | At the confluence with Buffalo Creek | +768 | Cleveland County (Unincorporated Areas).
| Approximately 1.3 miles upstream of Sperling Road | +873
Sulpher Springs Branch | At the confluence with Hickory Creek (near Shelby) | +676 | Cleveland County (Unincorporated Areas), City of Shelby.
| Approximately 1,200 feet upstream of the confluence of Logan Branch | +725
Swainsville Creek | At the confluence with Beaverdam Creek (near Boiling Springs) | +704 | Cleveland County (Unincorporated Areas), Town of Boiling Springs.
| Approximately 1.0 mile upstream of Beaver Dam Church Road | +769
Tim Creek | At the confluence with Ward Creek | +1,075 | Cleveland County (Unincorporated Areas).
| Approximately 1,350 feet upstream of Wards Gap Road | +1,088
UT between Shelby Raw Water Intakes | At the confluence with First Broad River | +714 | Cleveland County (Unincorporated Areas), City of Shelby.
| Approximately 0.5 mile upstream of Frederick Street | +881
Ward Creek | At the confluence with First Broad River | +883 | Cleveland County (Unincorporated Areas), Town of Casar.
| Approximately 0.4 mile upstream of South Valley Road | +1,101
West Fork Brushy Creek | At the confluence with Brushy Creek | +861 | Cleveland County (Unincorporated Areas).
| Approximately 1,350 feet upstream of Crowder Ridge Road | +879
West Fork Sandy Run | At the confluence with Sandy Run | +778 | Cleveland County (Unincorporated Areas).
| Approximately 200 feet upstream of the confluence of Buck Branch (into West Fork Sandy Run) | +801
Whiteoak Creek | At the confluence with Buffalo Creek | +740 | Cleveland County (Unincorporated Areas), City of Kings Mountain, Town of Waco.
| Approximately 0.5 mile upstream of State Route 150 | +924
Williams Creek | At the confluence with First Broad River | +721 | Cleveland County (Unincorporated Areas), City of Shelby.
| Approximately 330 feet upstream of North Lafayette Street | +744
Yancey Creek | At the confluence with First Broad River | +633 | Cleveland County (Unincorporated Areas), Town of Boiling Springs.
| Approximately 0.8 mile upstream of Keen Drive | +861
# Depth in feet above ground.
* National Geodetic Vertical Datum.
+ North American Vertical Datum.
ADDRESSES
City of Kings Mountain
Maps are available for inspection at the Kings Mountain City Hall, 101 West Gold Street, Kings Mountain, North Carolina.
City of Shelby
Maps are available for inspection at the City of Shelby Planning Department, 315 South Lafayette Street, Shelby, North Carolina.
Town of Belwood
Maps are available for inspection at the Belwood Town Hall, 916 Belwood-Lawndale Road, Lawndale, North Carolina.
Town of Boiling Springs
Maps are available for inspection at the Boiling Springs Town Hall, 145 South Main Street, Boiling Springs, North Carolina.
Town of Casar
Maps are available for inspection at the Casar Town Hall, 137 Deviney Street, Casar, North Carolina.
Town of Grover
Maps are available for inspection at the Grover Town Hall, 207 Mulberry Road, Grover, North Carolina.
Town of Kingstown
Maps are available for inspection at the Kingstown Town Hall, 2014 Kingston Road, Kingstown, North Carolina.
Town of Lawndale
Maps are available for inspection at the Lawndale Town Hall, 207 West Main Street, Lawndale, North Carolina.
Town of Mooresboro
Maps are available for inspection at the Mooresboro Town Hall, 211 West Church Street, Mooresboro, North Carolina.
Town of Polkville
Maps are available for inspection at the Polkville Town Hall, 1234 Shytle Drive, Polkville, North Carolina.
Town of Waco
Maps are available for inspection at the Waco Town Hall, 200 North Main Street, Waco, North Carolina.
Cleveland County (Unincorporated Areas)
Maps are available for inspection at the Cleveland County Planning Department, 311 East Marion Street, Shelby, North Carolina.
Montgomery County, North Carolina and Incorporated Areas
Docket No.: FEMA-B-7708
Alls Fork | At the confluence with Beaverdam Creek | +511 | Montgomery County (Unincorporated Areas).
| At the Montgomery/Davidson County boundary | +511
Arnett Branch | At the confluence with Densons Creek | +504 | Montgomery County (Unincorporated Areas).
| Approximately 75 feet downstream of Substation Road (State Road 1315) | +519
Asheworth Branch | At the confluence with Little River | +562 | Montgomery County (Unincorporated Areas).
| Approximately 200 feet upstream of King Drive | +574
Barnes Creek | At the confluence with Uwharrie River | +330 | Montgomery County (Unincorporated Areas).
| Approximately 1,570 feet upstream of Flint Hill Road | +483
Barnes Mill Creek | At the confluence with West Fork Little River | +480 | Montgomery County (Unincorporated Areas).
| Approximately 1.0 mile upstream of the confluence with West Fork Little River | +523
Beaverdam Creek | At the confluence with Reynolds Creek | +511 | Montgomery County (Unincorporated Areas).
| At the Montgomery/Davidson County boundary | +511
Betsy Creek | At the confluence with West Fork Little River | +588 | Montgomery County (Unincorporated Areas).
| Approximately 1,330 feet upstream of Smith Farm Road | +630
Big Creek | Approximately 1,200 feet upstream of the confluence with Little River | +363 | Montgomery County (Unincorporated Areas).
| Approximately 3.1 miles upstream of the confluence of Little Creek | +604
Big Mountain Creek | At the Montgomery/Richmond County boundary | +378 | Montgomery County (Unincorporated Areas).
| Approximately 890 feet upstream of Big Mountain Creek Tributary 2 | +454
Tributary 1 | At the confluence with Big Mountain Creek | +432 | Montgomery County (Unincorporated Areas).
| Approximately 0.5 mile upstream of the confluence with Big Mountain Creek | +449
Tributary 2 | At the confluence with Big Mountain Creek | +450 | Montgomery County (Unincorporated Areas).
| Approximately 1,800 feet upstream of the confluence with Big Mountain Creek | +471
Big Town Creek | At the confluence with Little River | +211 | Montgomery County (Unincorporated Areas).
| Approximately 1.44 miles upstream of NC 732 Highway | +368
Big Wolf Branch | At the confluence with Little Hamer Creek | +257 | Montgomery County (Unincorporated Areas).
| Approximately 200 feet upstream of Warner Farm Road | +283
Bishop Creek | At the confluence with Dumas Creek | +486 | Montgomery County (Unincorporated Areas).
| Approximately 1.5 miles upstream of Shiloh Church Road | +563
Bridgers Creek | Approximately 1,000 feet upstream of the confluence with Little River | +380 | Montgomery County (Unincorporated Areas).
| Approximately 680 feet downstream of Currie Road | +549
Cabin Creek | At the Montgomery/Moore County boundary | +486 | Montgomery County (Unincorporated Areas).
| Approximately 0.8 mile upstream of U.S. Highway 220 | +587
Tributary | At the confluence with Cabin Creek | +538 | Montgomery County (Unincorporated Areas).
| Approximately 1,000 feet upstream of Post Office Road | +557
Cedar Creek | Approximately 500 feet upstream of the confluence with Little River | +389 | Montgomery County (Unincorporated Areas).
| Approximately 0.66 mile upstream of McCaskill Road | +540
Cheek Creek | At the Montgomery/Richmond County boundary | +207 | Montgomery County (Unincorporated Areas).
| Approximately 2.0 miles upstream of the confluence of Indian Branch | +418
Clark's Creek Tributary | Approximately 80 feet upstream of the railroad | +284 | Town of Mount Gilead.
| At NC Highway 731 | +289
Clark's Creek | At the confluence with Pee Dee River | +230 | Montgomery County (Unincorporated Areas).
| Approximately 1.6 miles upstream of NC Highway 24/27 | +539
Cotton Creek | At the Montgomery/Moore County boundary | +477 | Montgomery County (Unincorporated Areas).
| Approximately 40 feet upstream of Cotton Creek Road | +507
Densons Creek | At the confluence with Little River | +395 | Montgomery County (Unincorporated Areas), Town of Troy.
| Approximately 600 feet upstream of Substation Road | +520
Dicks Creek | At the confluence with Little River | +415 | Montgomery County (Unincorporated Areas).
| Just downstream of the confluence of Lick Creek | +481
Tributary 1 | At the confluence with Dicks Creek | +424 | Montgomery County (Unincorporated Areas), Town of Biscoe.
| Approximately 1.8 miles upstream of Dicks Creek | +576
Disons Creek | At the confluence with Little River | +218 | Montgomery County (Unincorporated Areas).
| Approximately 580 feet upstream of Calvery Church Road | +333
Tributary 1 | At the confluence with Disons Creek | +304 | Montgomery County (Unincorporated Areas).
| Approximately 0.58 mile upstream of the confluence with Disons Creek | +337
Drowning Creek | At the Montgomery/Moore/Richmond County boundary | +368 | Montgomery County (Unincorporated Areas).
| Approximately 1.5 miles upstream of Dowd Road | +672
Tributary 1 | At the confluence with Drowning Creek | +406 | Montgomery County (Unincorporated Areas).
| Approximately 0.5 mile upstream of Bennett Road | +514
Dry Creek | At the confluence with Big Mountain Creek | +389 | Montgomery County (Unincorporated Areas).
| Approximately 1,340 feet upstream of Graham Road | +405
Dumas Creek | At the confluence with Densons Creek | +452 | Montgomery County (Unincorporated Areas).
| Approximately 0.9 mile upstream of the confluence of Flat Rock Branch | +637
Duncombe Creek | At the confluence with Uwharrie River | +341 | Montgomery County (Unincorporated Areas).
| Approximately 0.5 mile upstream of Uwharrie River | +367
Dutchmans Creek | Approximately 800 feet upstream of the confluence with Uwharrie River | +289 | Montgomery County (Unincorporated Areas).
| Approximately 330 feet upstream of River Road | +348
Flat Rock Branch | At the confluence with Dumas Creek | +581 | Montgomery County (Unincorporated Areas).
| Approximately 0.4 mile upstream of Dumas Creek | +598
Garr Creek | At the confluence with Yadkin River | +511 | Montgomery County (Unincorporated Areas).
| Approximately 280 feet upstream of Tuckertown Road | +516
Glady Fork | At the confluence with Reynolds Creek | +511 | Montgomery County (Unincorporated Areas).
| Approximately 0.6 mile upstream of NC 109 Highway | +574
Hickory Branch | At the confluence with White Oak Creek | +540 | Montgomery County (Unincorporated Areas), Town of Biscoe.
| Approximately 330 feet upstream of West Main Street | +595
Indian Branch | At the confluence with Cheek Creek | +337 | Montgomery County (Unincorporated Areas).
| Approximately 0.6 mile upstream of Cheek Creek | +358
Lick Creek | At the confluence with Dicks Creek | +481 | Montgomery County (Unincorporated Areas).
| Approximately 30 feet upstream of the confluence of Lick Creek Tributary 1 | +544
(into Cotton Creek) | At the confluence with Cotton Creek | +507 | Montgomery County (Unincorporated Areas).
| Approximately 1.1 miles upstream of Cotton Creek Road | +525
Tributary 1 | At the confluence with Lick Creek | +544 | Montgomery County (Unincorporated Areas), Town of Biscoe.
| Approximately 650 feet upstream of Jackson Drive | +569
Tributary 2 | At the confluence with Lick Creek | +501 | Montgomery County (Unincorporated Areas), Town of Biscoe.
| Approximately 0.6 mile upstream of Wright Road | +572
Tributary 2A | At the confluence with Lick Creek Tributary 2 | +512 | Montgomery County (Unincorporated Areas), Town of Biscoe.
| Approximately 590 feet upstream of Shady Oak Drive | +545
Lick Fork | At the upstream side of CC Camp Road | +301 | Montgomery County (Unincorporated Areas).
| Approximately 350 feet upstream of NC Highway 27/24 | +584
Tributary 1 | At the confluence with Lick Fork | +455 | Montgomery County (Unincorporated Areas).
| Approximately 0.8 mile upstream of the confluence with Lick Fork | +491
Little Creek | At the confluence with Big Creek | +464 | Montgomery County (Unincorporated Areas).
| Approximately 850 feet upstream of McCallum Road | +487
Little Dry Creek | At the confluence with Big Creek | +374 | Montgomery County (Unincorporated Areas).
| Approximately 0.7 mile upstream of the confluence with Big Creek | +396
Little Dumas Creek | At the confluence with Dumas Creek | +553 | Montgomery County (Unincorporated Areas).
| Approximately 1.6 miles upstream of Shiloh Church Road | +678
Little Hamer Creek | At the Montgomery/Richmond County boundary | +241 | Montgomery County (Unincorporated Areas).
| Approximately 1.1 miles upstream of Gaddy Farm Road | +298
Little River | At the Montgomery/Richmond County boundary | +207 | Montgomery County (Unincorporated Areas).
| At the Montgomery/Randolph County boundary | +572
Tributary 1 | Approximately 2,000 feet upstream of the confluence with Little River | +383 | Montgomery County (Unincorporated Areas).
| Approximately 0.7 mile upstream of Little River | +400
Long Branch | At the confluence with Little River | +360 | Montgomery County (Unincorporated Areas).
| Approximately 310 feet upstream of Hicks Road | +386
McLeans Creek | At the confluence with Moccasin Creek | +338 | Montgomery County (Unincorporated Areas).
| Approximately 1.3 miles upstream of Mullinix Road | +458
Middle Prong Hamer Creek | At the Montgomery/Richmond County boundary | +247 | Montgomery County (Unincorporated Areas).
| Approximately 0.5 mile upstream of Melton Grove Church Road | +296
Moccasin Creek | Approximately 1,500 feet upstream of the confluence with Uwharrie River | +322 | Montgomery County (Unincorporated Areas).
| Approximately 100 feet upstream of the confluence with West Branch | +348
Mountain Branch | At the confluence with Glady Fork | +523 | Montgomery County (Unincorporated Areas).
| At the Montgomery/Davidson County boundary | +600
Naked Creek (into Drowning Creek) | At the Montgomery/Richmond County boundary | +458 | Montgomery County (Unincorporated Areas).
| Approximately 1,400 feet downstream of Belford Church Road | +544
Nichols Run | At the confluence with West Fork Little River | +545 | Montgomery County (Unincorporated Areas).
| Approximately 1,350 feet upstream of Lucas Road | +596
Tributary 1 | At the confluence with Nichols Run | +555 | Montgomery County (Unincorporated Areas).
| Approximately 0.9 mile upstream of NC 134 Highway N | +596
Pee Dee River | At the Montgomery/Richmond County boundary | +220 | Montgomery County (Unincorporated Areas).
| At the confluence of Yadkin River and Uwharrie River | +287
Tributary 5 | At the confluence with Pee Dee River | +222 | Montgomery County (Unincorporated Areas).
| Approximately 0.9 mile upstream of Pee Dee River | +242
Poison Fork | At the confluence with Barnes Creek | +454 | Montgomery County (Unincorporated Areas).
| Approximately 2.3 miles upstream of Flint Hill Road | +567
Polly Branch | At the confluence with Cheek Creek | +296 | Montgomery County (Unincorporated Areas).
| Approximately 0.7 mile upstream of the confluence with Cheek Creek | +333
Reedy Fork | At the confluence with Cedar Creek | +537 | Montgomery County (Unincorporated Areas).
| Approximately 0.6 mile upstream of Cedar Creek | +577
Reynolds Creek | At the confluence with Yadkin River | +511 | Montgomery County (Unincorporated Areas).
| At the Montgomery/Davidson County boundary | +522
Rock Branch | At the confluence with Big Creek | +446 | Montgomery County (Unincorporated Areas).
| Approximately 0.7 mile upstream of the confluence with Big Creek | +470
Rocky Creek (East) | At the confluence with Little River | +316 | Montgomery County (Unincorporated Areas).
| Approximately 0.41 mile upstream of Mount Carmel Church Road | +646
Tributary 1 | At the confluence with Rocky Creek | +633 | Montgomery County (Unincorporated Areas).
| Approximately 0.5 mile upstream of Mount Carmel Church Road | +667
Rocky Creek (West) | At the confluence with Pee Dee River | +280 | Montgomery County (Unincorporated Areas).
| Approximately 0.6 mile upstream of NC Highway 24/27 | +362
Sand Branch | At the confluence with Cheek Creek | +304 | Montgomery County (Unincorporated Areas).
| Approximately 0.4 mile upstream of the confluence with Cheek Creek | +318
Silver Creek | Approximately 400 feet upstream of County Line Road | +386 | Montgomery County (Unincorporated Areas).
| Approximately 1.2 miles upstream of County Line Road | +413
Suck Branch | At the confluence with Densons Creek | +428 | Town of Troy.
| Just downstream of Williamson Road | +528
Suggs Creek | At the confluence with Little River | +505 | Montgomery County (Unincorporated Areas).
| Approximately 0.5 mile upstream of Suggs Creek Tributary | +603
Suggs Creek Tributary | At the confluence with Suggs Creek | +586 | Montgomery County (Unincorporated Areas).
| Approximately 0.8 mile upstream of Suggs Creek | +612
Susies Creek | At the confluence with Little River | +214 | Montgomery County (Unincorporated Areas).
| Approximately 0.4 mile upstream of NC Highway 731 | +272
Thickety Creek | At the confluence with Little River | +230 | Montgomery County (Unincorporated Areas).
| Approximately 1.2 miles upstream of Thickety Creek Road | +306
Townsend Branch | At the confluence with Woodwards Branch | +257 | Montgomery County (Unincorporated Areas).
| Approximately 2.2 miles upstream of the confluence with Woodwards Branch | +307
Turkey Creek | Approximately 1,550 feet upstream of the confluence with Little River | +378 | Montgomery County (Unincorporated Areas).
| Approximately 0.6 mile upstream of the confluence with Little River | +397
Unnamed Tributary to Wolf Branch Creek | Approximately 1,000 feet downstream of Nelson Store Road | +241 | Montgomery County (Unincorporated Areas).
| Approximately 850 feet upstream of Nelson Store Road | +248
Uwharrie River | At the confluence with Yadkin River | +287 | Montgomery County (Unincorporated Areas).
| Approximately 1.7 miles upstream of Low Water Bridge Road | +369
Warner Creek | At the confluence with Rocky Creek (East) | +417 | Montgomery County (Unincorporated Areas).
| Approximately 1.7 miles upstream of Saunders Road | +472
West Branch | At the confluence with Moccasin Creek | +348 | Montgomery County (Unincorporated Areas).
| Approximately 1.2 miles upstream of McLeans Creek Road | +403
West Fork Little River | At the confluence with Little River | +432 | Montgomery County (Unincorporated Areas).
| At the Montgomery/Randolph County boundary | +615
West Prong Hamer Creek | At the confluence with Middle Prong Hamer Creek | +248 | Montgomery County (Unincorporated Areas).
| Approximately 1.2 miles upstream of NC 109 Highway S | +293
White Oak Creek | At the confluence with Cedar Creek | +455 | Montgomery County (Unincorporated Areas).
| Approximately 0.4 mile upstream of Martin Street | +608
Tributary 1 | At the confluence with White Oak Creek | +521 | Montgomery County (Unincorporated Areas), Town of Biscoe.
| Approximately 1,600 feet upstream of Quinton Road | +580
Tributary 1A | At the confluence with White Oak Creek Tributary 1 | +541 | Montgomery County (Unincorporated Areas).
| Approximately 0.4 mile upstream of White Oak Creek Tributary 1 | +573
Wolf Creek | Approximately 1,000 feet downstream of Hogan Farm Road | +519 | Montgomery County (Unincorporated Areas).
| Approximately 1,700 feet upstream of U.S. Highway 220 | +628
Wolf Creek Tributary | At the confluence with Wolf Creek | +542 | Montgomery County (Unincorporated Areas).
| Approximately 50 feet downstream of Wolf Creek Road | +609
Woodwards Branch | At the confluence with Cheek Creek | +255 | Montgomery County (Unincorporated Areas).
| Approximately 1,320 feet upstream of NC 731 Highway E | +270
Yadkin River | At the confluence of Pee Dee River and Uwharrie River | +287 | Montgomery County (Unincorporated Areas).
| Approximately 13.3 miles upstream of Uwharrie River | +566
# Depth in feet above ground.
* National Geodetic Vertical Datum.
+ North American Vertical Datum.
ADDRESSES
Town of Biscoe
Maps are available for inspection at the Biscoe Town Hall, 110 West Main Street, Biscoe, North Carolina.
Town of Mount Gilead
Maps are available for inspection at the Mount Gilead Town Hall, 110 West Allenton Street, Mount Gilead, North Carolina.
Montgomery County (Unincorporated Areas)
Maps are available for inspection at the Montgomery County Inspections and Zoning Office, 219 South Main Street, Troy, North Carolina.
Town of Troy
Maps are available for inspection at the Troy Town Hall, 315 North Main Street, Troy, North Carolina.
Randolph County, North Carolina and Incorporated Areas
Docket Nos.: FEMA-D-7630, FEMA-D-7686, and FEMA-D-7694
Asheworth Branch | At the Randolph/Montgomery County boundary | +574 | Randolph County (Unincorporated Areas).
| Approximately 215 feet upstream of King Drive | +574
Bachelor Creek | At the confluence with Richland Creek | +455 | Randolph County (Unincorporated Areas).
| Approximately 0.5 mile upstream of the confluence of Bachelor Creek Tributary 5 | +653
Tributary 1 | At the confluence with Bachelor Creek | +472 | Randolph County (Unincorporated Areas).
| Approximately 480 feet upstream of Osborn Mill Road | +513
Tributary 2 | At the confluence with Bachelor Creek | +506 | Randolph County (Unincorporated Areas).
| Approximately 0.7 mile upstream of the confluence with Bachelor Creek | +525
Tributary 3 | At the confluence with Bachelor Creek | +515 | Randolph County (Unincorporated Areas).
| Approximately 0.8 mile upstream of Bachelor Creek Road | +615
Tributary 4 | At the confluence with Bachelor Creek | +620 | Randolph County (Unincorporated Areas).
| Approximately 0.4 mile upstream of the confluence with Bachelor Creek | +637
Tributary 5 | At the confluence with Bachelor Creek | +637 | Randolph County (Unincorporated Areas).
| Approximately 0.5 mile upstream of the confluence with Bachelor Creek | +656
Back Creek | At the confluence with Caraway Creek | +429 | Randolph County (Unincorporated Areas), City of Asheboro.
| Approximately 110 feet upstream of the confluence of Back Creek Tributary 1 | +572
Tributary 1 | At the confluence with Back Creek | +571 | Randolph County (Unincorporated Areas).
| Approximately 0.5 mile upstream of Heath Dairy Road (State Road 1511) | +606
Tributary 1A | At the confluence with Back Creek Tributary 1 | +597 | Randolph County (Unincorporated Areas).
| Approximately 1,050 feet upstream of the confluence with Back Creek Tributary 1 | +602
Betty McGees Creek | At the confluence with Uwharrie River | +397 | Randolph County (Unincorporated Areas).
| Approximately 3.7 miles upstream of Lassiter Mill Road (State Road 1107) | +505
Big Branch | At the confluence with Little River | +656 | Randolph County (Unincorporated Areas).
| Approximately 0.7 mile upstream of the confluence with Little River | +686
Blood Run Creek | At the confluence with Brush Creek | +495 | Randolph County (Unincorporated Areas).
| At the Randolph/Chatham County boundary | +495
Boodom Creek | At the confluence with Sandy Creek | +565 | Randolph County (Unincorporated Areas).
| Approximately 0.6 mile upstream of Unnamed Road | +690
Tributary 1 | At the confluence with Boodom Creek | +565 | Randolph County (Unincorporated Areas).
| Approximately 2.1 miles upstream of the confluence with Boodom Creek | +734
Tributary 2 | At the confluence with Boodom Creek | +582 | Randolph County (Unincorporated Areas), Town of Liberty.
| Approximately 480 feet upstream of Troy Estate Road | +727
Brier Creek | At the confluence with Little Uwharrie River | +534 | Randolph County (Unincorporated Areas).
| At the Davidson/Randolph County boundary | +546 |
Tributary 1 | At the confluence with Brier Creek | +546 | Randolph County (Unincorporated Areas).
| Approximately 1,035 feet upstream of Hughes Grove Road (State Road 1400) | +585
Brush Creek | At the confluence with Deep River | +363 | Randolph County (Unincorporated Areas).
| Approximately 200 feet upstream of Langley Road | +612
Tributary 1 | At the confluence with Brush Creek | +568 | Randolph County (Unincorporated Areas).
| Approximately 630 feet upstream of Browns Crossroads Road | +597
Bush Creek | At the confluence with Deep River | +491 | Randolph County (Unincorporated Areas), Town of Franklinville
| Approximately 0.4 mile upstream of Old Liberty Road | +708
Tributary | At the confluence with Bush Creek | +572 | Randolph County (Unincorporated Areas).
| Approximately 0.7 mile upstream of Whites Memorial Drive | +625
Cable Creek | At the confluence with Back Creek | +436 | Randolph County (Unincorporated Areas).
| Approximately 1.3 miles upstream of the confluence with Back Creek | +456
Caraway Creek | At the confluence with Uwharrie River | +411 | Randolph County (Unincorporated Areas), City of Archdale
| Approximately 1.6 miles upstream of Roy Farlow Road (State Road 1534) | +715
Tributary 1 | At the confluence with Caraway Creek | +494 | Randolph County (Unincorporated Areas).
| Approximately 1.0 mile upstream of Sawyer Road | +594
Tributary 2 | At the confluence with Caraway Creek | +543 | Randolph County (Unincorporated Areas).
| Approximately 1,300 feet upstream of Beeson Farm Road (State Road 1525) | +627
Tributary 3 | At the confluence with Caraway Creek | +681 | Randolph County (Unincorporated Areas).
| Approximately 0.4 mile upstream of the confluence with Caraway Creek | +691
Cedar Fork Creek | At the confluence with Back Creek | +474 | Randolph County (Unincorporated Areas), City of Asheboro.
| Approximately 760 feet upstream of South Church Street | +844
Deep River | At the Randolph/Moore County boundary | +354 | Randolph County (Unincorporated Areas), City of Asheboro, City of Randleman, Town of Franklinville, Town of Ramseur
| At the Randolph/Guilford County boundary | +672
Tributary 15 | At the confluence with Deep River | +446 | Randolph County (Unincorporated Areas), Town of Ramseur.
| Approximately 1,160 feet upstream of U.S. Highway 64 | +549
Tributary 16 | At the confluence with Deep River | +450 | Randolph County (Unincorporated Areas), Town of Ramseur.
| Approximately 1.8 miles upstream of NC 22 | +520
Tributary 17 | At the confluence with Deep River | +459 | Randolph County (Unincorporated Areas), Town of Franklinville.
| Approximately 0.9 mile upstream of U.S. Highway 64 | +529
Tributary 18 | At the confluence with Deep River | +467 | Randolph County (Unincorporated Areas), Town of Franklinville.
| Approximately 0.5 mile upstream of Depot Street | +600
Tributary 19 | At the confluence with Deep River Tributary 18 | +478 | Randolph County (Unincorporated Areas), Town of Franklinville.
| Approximately 1,850 feet upstream of Clark Avenue | +562
Tributary 20 | At the confluence with Deep River | +600 | Randolph County (Unincorporated Areas), City of Randleman.
| Approximately 1,320 feet upstream of Worthville Street | +675
Tributary 21 | At the confluence with Deep River | +604 | Randolph County (Unincorporated Areas).
| Approximately 0.4 mile upstream of Sunset Drive | +687
Tributary 22 | At the confluence with Deep River Tributary 21 | +634 | Randolph County (Unincorporated Areas), City of Randleman.
| Approximately 0.7 mile upstream of Bowman Avenue | +698
Tributary 23 | At the confluence with Deep River Tributary 22 | +661 | Randolph County (Unincorporated Areas), City of Randleman.
| Approximately 800 feet upstream of Brookwood Acres Drive | +736
Tributary 24 | At the confluence with Deep River | +623 | Randolph County (Unincorporated Areas), City of Randleman.
| Approximately 0.9 mile upstream of Business 220 | +724
Tributary 26 | At the confluence with Deep River | +664 | Randolph County (Unincorporated Areas).
| At the Randolph/Guilford County boundary | +704
Dodsons Lake | At the confluence with Sandy Creek | +583 | Randolph County (Unincorporated Areas).
| Approximately 0.4 mile upstream of Julian Airport Road | +642
Tributary 2 | At the confluence with Dodsons Lake | +613 | Randolph County (Unincorporated Areas).
| Approximately 0.3 mile upstream of the confluence with Dodsons Lake | +626
Tributary 1 | At the confluence with Dodsons Lake | +608 | Randolph County (Unincorporated Areas).
| Approximately 420 feet upstream of Upper Three Lakes Dam | +655
Fork Creek | At the confluence with Deep River | +354 | Randolph County (Unincorporated Areas).
| Approximately 2.3 miles upstream of the confluence with Fork Creek Tributary 1 | +642
Tributary 1 | At the confluence with Fork Creek | +507 | Randolph County (Unincorporated Areas).
| Approximately 600 feet upstream of Seagrove Plank Road | +734
Tributary 2 | At the confluence with Fork Creek Tributary 1 | +516 | Randolph County (Unincorporated Areas).
| Approximately 2.0 miles upstream of Angel Fire Trail | +645
Tributary 3 | At the confluence with Fork Creek Tributary 1 | +555 | Randolph County (Unincorporated Areas), Town of Seagrove.
| Approximately 1.6 miles upstream of the confluence with Fork Creek Tributary 1 | +622
Gabriels Creek | At the confluence with Deep River | +548 | Randolph County (Unincorporated Areas), City of Asheboro.
| Approximately 480 feet upstream of Green Valley Road | +703
Tributary 1 | At the confluence with Gabriels Creek | +551 | Randolph County (Unincorporated Areas), City of Asheboro.
| Approximately 1,900 feet upstream of Old Cedar Falls Road | +696
Tributary 2 | At the confluence with Gabriels Creek | +594 | Randolph County (Unincorporated Areas), City of Asheboro.
| Approximately 0.7 mile upstream of Henley Country Road | +695
Hannahs Creek | At the confluence with Uwharrie River | +392 | Randolph County (Unincorporated Areas).
| Approximately 0.6 mile upstream of the confluence of Robbins Branch | +517
Hasketts Creek | At the confluence with Deep River | +580 | Randolph County (Unincorporated Areas), City of Asheboro.
| Approximately 1,270 feet upstream of West Presnell Street | +816
Tributary 1 | Just downstream of Northwood Drive | +670 | City of Asheboro.
| Approximately 420 feet upstream of McKnight Street | +685
Tributary 2 | At the confluence with Hasketts Creek | +734 | Randolph County (Unincorporated Areas), City of Asheboro.
| Approximately 0.6 mile upstream of West Presnell Street | +794
Jackson Creek | At the confluence with Uwharrie River | +418 | Randolph County (Unincorporated Areas).
| Approximately 0.7 mile upstream of Jackson Creek Road (State Road 1314) | +565
Kings Creek | At the confluence with Little River | +585 | Randolph County (Unincorporated Areas)
| Approximately 1.4 miles upstream of the confluence with Little River | +607
Lakes Creek | At the confluence with Uwharrie River | +372 | Randolph County (Unincorporated Areas)
| Approximately 0.4 mile upstream of the confluence with Uwharrie River | +418
Lambert Creek | At the confluence with Fork Creek | +453 | Randolph County (Unincorporated Areas).
| Approximately 0.7 mile upstream of the confluence with Fork Creek | +468
Laniers Creek | At the confluence with Uwharrie River | +385 | Randolph County (Unincorporated Areas).
| Approximately 150 feet downstream of Johnson Farm Road (State Road 1262) | +558
Little Brush Creek | At the confluence with Brush Creek | +409 | Randolph County (Unincorporated Areas).
| At the Randolph/Chatham County boundary | +454
Little Caraway Creek | At the confluence with Caraway Creek | +461 | Randolph County (Unincorporated Areas).
| Approximately 1.9 miles upstream of the confluence of Little Caraway Creek Tributary 1 | +598
Tributary 1 | At the confluence with Little Caraway Creek | +536 | Randolph County (Unincorporated Areas).
| Approximately 0.9 mile upstream of the confluence with Little Caraway Creek | +568
Little Polecat Creek | At the confluence with Polecat Creek | +658 | Randolph County (Unincorporated Areas).
| Approximately 1,050 feet upstream of dam | +769
Tributary 1 | At the confluence with Little Polecat Creek | +681 | Randolph County (Unincorporated Areas).
| Approximately 1.4 miles upstream of New Salem Road | +788
Tributary 2 | At the confluence with Little Polecat Creek Tributary 1 | +746 | Randolph County (Unincorporated Areas).
| Approximately 1.0 mile upstream of the confluence with Little Polecat Creek Tributary 1 | +789
Tributary 3 | At the confluence with Little Polecat Creek | +699 | Randolph County (Unincorporated Areas).
| Approximately 0.9 mile upstream of Bethel Church Road | +753
Tributary 4 | At the confluence with Little Polecat Creek | +705 | Randolph County (Unincorporated Areas).
| Approximately 740 feet upstream of Hunting Lodge Road | +742
Tributary 5 | At the confluence with Little Polecat Creek Tributary 4 | +709 | Randolph County (Unincorporated Areas).
| Approximately 0.9 mile upstream of Hunting Lodge Road | +763
Little River | At the Randolph/Montgomery County boundary | +572 | Randolph County (Unincorporated Areas).
| Approximately 0.5 mile upstream of Southmont Drive (State Road 1145) | +742
Tributary 10 | At the confluence with Little River | +669 | Randolph County (Unincorporated Areas).
| Approximately 1,645 feet upstream of the confluence with Little River | +678
Tributary 11 | At the confluence with Little River | +672 | Randolph County (Unincorporated Areas).
| Approximately 1,340 feet upstream of the confluence with Little River | +680
Tributary 12 | At the confluence with Little River | +718 | Randolph County (Unincorporated Areas).
| Approximately 230 feet upstream of U.S. Highway 220 | +759
Tributary 2 | At the confluence with Little River | +578 | Randolph County (Unincorporated Areas).
| Approximately 0.5 mile upstream of the confluence with Little River | +598
Tributary 3 | At the confluence with Little River | +586 | Randolph County (Unincorporated Areas).
| Approximately 0.5 mile upstream of the confluence with Little River | +606
Tributary 4 | At the confluence with Little River | +588 | Randolph County (Unincorporated Areas).
| Approximately 1,210 feet upstream of the confluence with Little River | +607
Tributary 5 | At the confluence with Little River | +601 | Randolph County (Unincorporated Areas).
| Approximately 1,825 feet upstream of NC Highway 134 | +631
Tributary 6 | At the confluence with Little River | +614 | Randolph County (Unincorporated Areas).
| Approximately 1,415 feet upstream of the confluence with Little River | +653
Tributary 7 | At the confluence with Little River | +651 | Randolph County (Unincorporated Areas).
| Approximately 1,190 feet upstream of the confluence with Little River | +664
Tributary 8 | At the confluence with Little River | +653 | Randolph County (Unincorporated Areas).
| Approximately 1,870 feet upstream of the confluence with Little River | +665
Tributary 9 | At the confluence with Little River | +664 | Randolph County (Unincorporated Areas)
| Approximately 1,375 feet upstream of the confluence with Little River | +686
Little Uwharrie River | At the confluence with Uwharrie River | +457 | Randolph County (Unincorporated Areas), City of Trinity.
| Approximately 0.4 mile upstream of NC Highway 62 | +891
Tributary 1 | At the confluence with Little Uwharrie River | +492 | Randolph County (Unincorporated Areas).
| Approximately 0.4 mile upstream of the confluence with Little Uwharrie River | +506
Tributary 10 | At the confluence with Little Uwharrie River | +814 | Randolph County (Unincorporated Areas), City of Trinity.
| At the Davidson/Randolph County boundary | +858
Tributary 10A | At the confluence with Little Uwharrie River Tributary 10 | +826 | Randolph County (Unincorporated Areas), City of Trinity.
| Approximately 0.7 mile upstream of the confluence with Little Uwharrie River Tributary 10 | +904
Tributary 11 | At the confluence with Little Uwharrie River | +829 | City of Trinity.
| At the Davidson/Randolph County boundary | +848
Tributary 11A | At the confluence with Little Uwharrie River Tributary 11 | +839 | City of Trinity.
| Just upstream of the Davidson/Randolph County boundary | +876 | Randolph County (Unincorporated Areas).
Tributary 4 | At the confluence with Little Uwharrie River | 691 | Randolph County (Unincorporated Areas).
| Approximately 880 feet upstream of Courtland Drive (State Road 3253) | +888
Tributary 5 | At the confluence with Little Uwharrie River | +704 | Randolph County (Unincorporated Areas).
| Approximately 90 feet upstream of Refuge Church Drive | +790
Tributary 6 | At the confluence with Little Uwharrie River | +734 | Randolph County (Unincorporated Areas).
| Approximately 0.7 mile upstream of the confluence with Little Uwharrie River | +896
Tributary 6A | At the confluence with Little Uwharrie River Tributary 6 | +745 | Randolph County (Unincorporated Areas).
| Approximately 0.5 mile upstream of the confluence with Little Uwharrie River Tributary 6 | +850
Tributary 7 | At the confluence with Little Uwharrie River | +779 | Randolph County (Unincorporated Areas), City of Trinity.
| Approximately 1,220 feet upstream of Finch Farm Road (State Road 1547) | +841
Tributary 8 | At the confluence with Little Uwharrie River | +793 | Randoph County (Unincorporated Areas), City of Trinity.
| Approximately 1.0 mile upstream of the confluence with Little Uwharrie River | +897
Tributary 8A | At the confluence with Little Uwharrie River Tributary 8 | +795 | Randoph County (Unincorporated Areas), City of Trinity.
| Approximately 0.6 mile upstream of the confluence with Little Uwharrie River Tributary 8 | +886
Long Branch | At the confluence with Cedar Fork Creek | +508 | Randoph County (Unincorporated Areas), City of Asheboro.
| Approximately 0.5 mile upstream of Wilson Drive | +666
Mill Creek (into Deep River) | At the confluence with Deep River | +431 | Randolph County (Unincorporated Areas).
| Approximately 1.0 mile upstream of Iron Mountain Road | +619
Mill Creek (into Uwharrie River) | At the confluence with Uwharrie River | +384 | Randolph County (Unincorporated Areas).
| Approximately 390 feet upstream of Lassiter Mill Road (State Road 1107) | +400
Tributary 1 | At the confluence with Mill Creek | +543 | Randolph County (Unincorporated Areas).
| Approximately 1,500 feet upstream of Woods Stream Lane | +631
Tributary 2 | At the confluence with Mill Creek | +547 | Randolph County (Unincorporated Areas).
| Approximately 0.8 mile upstream of the confluence with Mill Creek Tributary 3 | +609
Tributary 3 | At the confluence with Mill Creek Tributary 2 | +572 | Randolph County (Unincorporated Areas).
| Approximately 1,800 feet upstream of dam | +600
Tributary 4 | At the confluence with Mill Creek | +585 | Randolph County (Unincorporated Areas).
| Approximately 0.9 mile upstream of Creekway Ridge | +618
Millstone Creek | At the confluence with Deep River | +429 | Randolph County (Unincorporated Areas).
| Approximately 0.4 mile upstream of Lee Layne Road | +466
Mount Pleasant Creek | At the confluence with Sandy Creek | +503 | Randolph County (Unincorporated Areas).
| Approximately 0.7 mile upstream of Land Estates Drive | +615
Muddy Creek | At the confluence with Deep River | +638 | Randolph County (Unincorporated Areas), City of Archdale.
| Approximately 200 feet upstream of Verta Avenue | +846
East Tributary | At the confluence with Muddy Creek | +722 | Randolph County (Unincorporated Areas), City of Archdale.
| At the Guilford/Randolph County boundary | +814
East Tributary 2 | At the confluence with Muddy Creek East Tributary | +753 | Randolph County (Unincorporated Areas), City of Archdale.
| At the Guilford/Randolph County boundary | +767
East Tributary 3 | At the confluence with Muddy Creek East Tributary 2 | +753 | Randolph County (Unincorporated Areas), City of Archdale.
| At the Guilford/Randolph County boundary | +767
East Tributary 4 | At the confluence with Muddy Creek East Tributary | +766 | Randolph County (Unincorporated Areas), City of Archdale.
| At the Randolph/Guilford County boundary | +783
East Tributary 5 | At the Randolph/Guilford County boundary | +771 | City of Archdale.
| At the confluence with Muddy Creek East Tributary 4 | +771
Muddy Creek Tributary | At the confluence with Muddy Creek | +720 | Randoph County (Unincorporated Areas).
| Approximately 0.7 mile upstream of Walnut Tree Lane | +756
West Tributary | At the confluence with Muddy Creek | +786 | City of Archdale.
| Approximately 160 feet upstream of Playground Road | +842
Nanny Branch | At the confluence with Laniers Creek | +445 | Randoph County (Unincorporated Areas).
| Approximately 1,275 feet upstream of the confluence with Laniers Creek | +463
Narrows Branch | At the confluence with Uwharrie River | +371 | Randolph County (Unincorporated Areas).
| Approximately 0.4 mile upstream of the confluence with Uwharrie River | +460
North Prong Creek | At the Randolph/Alamance County boundary | +686 | Randolph County (Unincorporated Areas), Town of Liberty.
| Approximately 1,210 feet upstream of Unnamed Road | +712
North Prong Richland Creek | At the confluence with Richland Creek | +581 | Randoph County (Unincorporated Areas).
| Approximately 1,300 feet upstream of Staleys Farm Road | +694
Tributary | At the confluence with North Prong Richland Creek | +677 | Randoph County (Unincorporated Areas).
| Approximately 370 feet upstream of Tall Pine Street | +700
North Prong Rocky River | At the Randolph/Alamance County boundary | +677 | Randoph County (Unincorporated Areas), Town of Liberty.
| Approximately 210 feet upstream of South Cook Street | +754
Penwood Branch | Approximately 1,320 feet downstream of East Presnell Street | +747 | Randolph County (Unincorporated Areas).
| Approximately 1,690 feet upstream of Glenwood Road | +846
Polecat Creek | At the confluence with Deep River | +599 | Randolph County (Unincorporated Areas).
| Approximately 0.8 mile upstream of the confluence with Polecat Creek Tributary 7 | +702
Tributary 4 | At the confluence with Polecat Creek | +671 | Randolph County (Unincorporated Areas).
| At the Randolph/Guilford County boundary | +695
Tributary 5 | At the confluence with Polecat Creek Tributary 4 | +683 | Randolph County (Unincorporated Areas).
| Approximately 0.5 mile upstream of dam | +710
Tributary 6 | At the confluence with Polecat Creek | +679 | Randolph County (Unincorporated Areas).
| Approximately 1.3 miles upstream of the confluence with Polecat Creek | +736
Tributary 7 | At the confluence with Polecat Creek | +696 | Randolph County (Unincorporated Areas).
| Approximately 0.8 mile upstream of the confluence with Polecat Creek | +716
Reed Creek (into Deep River) | At the confluence with Deep River | +437 | Randolph County (Unincorporated Areas).
| Approximately 0.9 mile upstream of Wright Country Road | +619
Reed Creek (into Little River) | At the confluence with Little River | +603 | Randolph County (Unincorporated Areas).
| Approximately 0.8 mile upstream of Burney Road (State Road 1127) | +646
Tributary 1 | At the confluence with Reed Creek | +536 | Randolph County (Unincorporated Areas).
| Approximately 0.8 mile upstream of the confluence with Reed Creek | +554
Tributary 2 | At the confluence with Reed Creek | +537 | Randolph County (Unincorporated Areas).
| Approximately 0.4 mile upstream of U.S. Highway 64 | +562
Reedy Creek | At the confluence with Little River. | +618 | Randolph County (Unincorporated Areas).
| Approximately 1,870 feet upstream of the confluence with Little River | +642
Richland Creek | At the confluence with Deep River | +368 | Randolph County (Unincorporated Areas).
| At the confluence of North and South Prong Richland Creek | +581
Robbins Branch | At the confluence with Hannahs Creek | +494 | Randolph County (Unincorporated Areas).
| Approximately 1,345 feet upstream of the confluence with Hannahs Creek | +507
Rocky River | At the Randolph/Chatham County boundary | +644 | Randolph County (Unincorporated Areas), Town of Liberty.
| Approximately 0.4 mile upstream of dam | +736
Tributary 2 | At the confluence with Rocky River | +664 | Randolph County (Unincorporated Areas), Town of Liberty.
| Approximately 1.3 miles upstream of Overman Road Dam | +716
Tributary 3 | At the confluence with Rocky River | +682 | Randolph County (Unincorporated Areas), Town of Liberty.
| Approximately 790 feet upstream of Old U.S. 421 | +724
Tributary 4 | At the confluence with Rocky River | +696 | Randolph County (Unincorporated Areas), Town of Liberty.
| Approximately 1,000 feet upstream of dam | +749
Sand Branch | At the confluence with Laniers Creek | +441 | Randolph County (Unincorporated Areas).
| Approximately 1,490 feet upstream of the confluence with Laniers Creek | +462
Sandy Creek | At the confluence with Deep River | +455 | Randolph County (Unincorporated Areas), Town of Franklinville.
| Approximately 1,600 feet upstream of the confluence with Sandy Creek Tributary 11 | +730
Tributary 1 | At the confluence with Sandy Creek | +558 | Randolph County (Unincorporated Areas).
| Approximately 1.2 miles upstream of the confluence with Sandy Creek | +573
Tributary 10 | At the confluence with Sandy Creek | +684 | Randolph County (Unincorporated Areas).
| Approximately 1,550 feet upstream of Greeson Country Road | +733
Tributary 11 | At the confluence with Sandy Creek | +703 | Randolph County (Unincorporated Areas).
| Approximately 900 feet upstream of the confluence with Sandy Creek | +718
Tributary 2 | At the confluence with Sandy Creek | +576 | Randolph County (Unincorporated Areas), Town of Liberty.
| Approximately 2.0 miles upstream of U.S. Highway 421 | +758
Tributary 3 | At the confluence with Sandy Creek | +581 | Randolph County (Unincorporated Areas), Town of Liberty.
| Approximately 1.8 miles upstream of York Martin Road | +735
Tributary 4 | At the confluence with Sandy Creek Tributary 3 | +587 | Randolph County (Unincorporated Areas), Town of Liberty.
| Approximately 1.2 miles upstream of the confluence with Sandy Creek Tributary 3 | +686
Tributary 5 | At the confluence with Sandy Creek Tributary 3 | +596 | Randolph County (Unincorporated Areas), Town of Liberty.
| Approximately 1.5 miles upstream of Bunton Swaim Road | +733
Tributary 6 | At the confluence with Sandy Creek Tributary 5 | +599 | Randolph County (Unincorporated Areas), Town of Liberty.
| Approximately 1,320 feet upstream of dam | +724
Tributary 7 | At the confluence with Sandy Creek | +581 | Randolph County (Unincorporated Areas).
| Approximately 1.7 miles upstream of Starmount Road | +652
Tributary 8 | At the confluence with Sandy Creek | +607 | Randolph County (Unincorporated Areas).
| Approximately 2.2 miles upstream of Randolph Church Road | +741
Tributary 9 | At the confluence with Sandy Creek | +622 | Randolph County (Unincorporated Areas).
| Approximately 1.4 miles upstream of Hollow Hill Road | +708
Second Creek | At the confluence with Uwharrie River | +396 | Randolph County (Unincorporated Areas).
| Approximately 0.8 mile upstream of the confluence with Second Creek Tributary 3 | +505
Tributary 1 | At the confluence with Second Creek | +396 | Randolph County (Unincorporated Areas).
| Approximately 0.4 mile upstream of the confluence with Second Creek | +407
Tributary 2 | At the confluence with Second Creek | +459 | Randolph County (Unincorporated Areas).
| Approximately 0.5 mile upstream of the confluence with Second Creek | +476
Tributary 2A | At the confluence with Second Creek Tributary 2 | +463 | Randolph County (Unincorporated Areas).
| Approximately 1,900 feet upstream of Salem Church Road (State Road 1304) | +483
Tributary 3 | At the confluence with Second Creek | +479 | Randolph County (Unincorporated Areas).
| Approximately 1,100 feet upstream of Bombay School Road (State Road 1178) | +512
Silver Run Creek | At the confluence with Uwharrie River | +394 | Randolph County (Unincorporated Areas).
| Approximately 275 feet upstream of Lassiter Mill Road (State Road 1107) | +402
Simmons Branch | At the confluence with Deep River | +634 | Randolph County (Unincorporated Areas).
| Approximately 1,550 feet upstream of Old Walker Mill Road Extension | +652
South Fork Jackson Creek | At the confluence with Jackson Creek | +506 | Randolph County (Unincorporated Areas).
| Approximately 1.4 miles upstream of the confluence with Jackson Creek | +545
South Prong Little River | At the confluence with Little River | +678 | Randolph County (Unincorporated Areas).
| Approximately 0.5 mile upstream of the confluence with Little River | +685
South Prong Richland Creek | At the confluence with Richland Creek | +581 | Randolph County (Unincorporated Areas).
| Approximately 0.5 mile upstream of Ross Harris Road | +658
South Prong Stinking Quarter Creek | At the Randolph/Guilford County boundary | +624 | Randolph County (Unincorporated Areas), Town of Liberty.
| Approximately 0.5 mile upstream of Redbud Lane | +755
Stinking Quarter Creek Tributary 3 | At the Randolph/Guilford County boundary | +624 | Randolph County (Unincorporated Areas).
| Approximately 1.0 mile upstream of Richland Church Road | +681
Taylor Branch | At the confluence with Muddy Creek | +692 | Randolph County (Unincorporated Areas).
| Approximately 1,100 feet upstream of Tuttle Road | +739
Taylors Creek | At the confluence with Caraway Creek | +414 | Randolph County (Unincorporated Areas).
| Approximately 3.3 miles upstream of Lassiter Mill Road (State Road 1107) | +543
Toms Creek | At the confluence with Uwharrie Rover | +402 | Randolph County (Unincorporated Areas).
| Approximately 1.3 miles upstream of Richey Road (State Road 1306) | +501
Two Mile Branch | At the confluence with Second Creek | +439 | Randolph County (Unincorporated Areas).
| Approximately 1,990 feet upstream of the confluence with Second Creek | +472
Two Mile Creek | At the confluence with Uwharrie River | +394 | Randolph County (Unincorporated Areas).
| Approximately 1,970 feet upstream of the confluence with Uwharrie River | +398
Uwharrie River | At the Montgomery/Randolph County boundary | +369 | Randolph County (Unincorporated Areas), City of Asheboro, City of Trinity.
| Approximately 130 feet upstream of Old Mendenhall Road (State Road 1616) | +791
Tributary 1 | At the confluence with Uwharrie River | +372 | Randolph County (Unincorporated Areas).
| Approximately 1,050 feet upstream of the confluence with Uwharrie River | +380
Tributary 2 | At the confluence with Uwharrie River | +387 | Randolph County (Unincorporated Areas).
| Approximately 0.6 mile upstream of the confluence with Uwharrie River | +400
Tributary 3 | At the confluence with Uwharrie River | +388 | Randolph County (Unincorporated Areas).
| Approximately 1,890 feet upstream of the confluence with Uwharrie River | +403
Tributary 4 | At the confluence with Uwharrie River | +445 | Randolph County (Unincorporated Areas).
| Approximately 0.7 mile upstream of the confluence with Uwharrie River | +445
Tributary 5 | At the confluence with Uwharrie River | +445 | Randolph County (Unincorporated Areas).
| Approximately 1,660 feet upstream of Garren Town Road (State Road 1332) | +452
Tributary 6 | At the confluence with Uwharrie River | +464 | Randolph County (Unincorporated Areas).
| Approximately 335 feet upstream of Skeens Mill Road (State Road 1550) | +483
Tributary 7 | At the confluence with Uwharrie River | +520 | Randolph County (Unincorporated Areas).
| Approximately 0.4 mile upstream of Sumner Road (State Road 1546) | +540
Tributary 8 | At the confluence with Uwharrie River | +557 | Randolph County (Unincorporated Areas), City of Archdale.
| Approximately 190 feet upstream of Alexandria Drive | +663
Tributary 8A | At the confluence with Uwharrie River Tributary 8 | +636 | Randolph County (Unincorporated Areas), City of Archdale.
| Approximately 0.8 mile upstream of the confluence with Uwharrie River Tributary 8 | +665
Tributary 9 | At the confluence with Uwharrie River | +578 | Randolph County (Unincorporated Areas), City of Trinity.
| Approximately 0.9 mile upstream of Red Fox Road | +805
Tributary 10 | At the confluence with Uwharrie River | +668 | City of Trinity.
| Approximately 330 feet upstream of Maple Oak Drive | +722
Tributary 11 | At the confluence with Uwharrie River | +694 | City of Trinity.
| Approximately 0.7 mile upstream of Mendenhall Road | +746
Vestal Creek | At the confluence with Richland Creek | +565 | Randolph County (Unincorporated Areas), City of Asheboro.
| At the confluence with Vestal Creek Tributary 3 | +651
Tributary 3 | At the confluence of Vestal Creek Tributary 2 | +662 | Randolph County (Unincorporated Areas), City of Asheboro.
| Approximately 0.7 mile upstream of Browers Chapel Road | +743
Wagners Branch | At the confluence with Little River | +582 | Randolph County (Unincorporated Areas).
| Approximately 290 feet upstream of Borough Avenue | +684
Walkers Creek | At the confluence with Uwharrie River | +376 | Randolph County (Unincorporated Areas).
| Approximately 1,775 feet upstream of the confluence with Uwharrie River | +385
Wesley Dean Branch | At the confluence with Little River | +577 | Randolph County (Unincorporated Areas).
| Approximately 0.8 mile upstream of the confluence with Little River | +606
West Fork Little River | At the Randolph/Montgomery County boundary | +615 | Randolph County (Unincorporated Areas).
| Approximately 850 feet upstream of Mt. Lebanon Road (State Road 1111) | +710
Tributary 1 | At the confluence with West Fork Little River | +622 | Randolph County (Unincorporated Areas).
| Approximately 0.4 mile upstream of the confluence with West Fork Little River | +629
Tributary 2 | At the confluence with West Fork Little River | +676 | Randolph County (Unincorporated Areas).
| Approximately 1,620 feet upstream of the confluence with West Fork Little River | +692
Tributary 3 | At the confluence with West Fork Little River | +694 | Randolph County (Unincorporated Areas).
| Approximately 1,320 feet upstream of the confluence with West Fork Little River | +701
Tributary 4 | At the confluence with West Fork Little River | +697 | Randolph County (Unincorporated Areas).
| Approximately 1,335 feet upstream of the confluence with West Fork Little River | +703
Tributary 5 | At the confluence with West Fork Little River | +708 | Randolph County (Unincorporated Areas).
| Approximately 1,010 feet upstream of the confluence with West Fork Little River | +710
# Depth in feet above ground.
* National Geodetic Vertical Datum.
+ North American Vertical Datum.
ADDRESSES
City of Archdale
Maps are available for inspection at the Archdale City Hall, 307 Balfour Drive, Archdale, North Carolina.
City of Asheboro
Maps are available for inspection at the City of Asheboro Planning and Zoning Department, Asheboro, North Carolina.
Town of Franklinville
Maps are available for inspection at the Franklinville City Hall, 163 West Main Street, Franklinville, North Carolina.
Town of Liberty
Maps are available for inspection at the Liberty Town Hall, 239 South Fayetteville Street, Liberty, North Carolina.
Town of Ramseur
Maps are available for inspection at the Ramseur Town Hall, 724 Liberty Street, Ramseur, North Carolina.
City of Randleman
Maps are available for inspection at the Randleman City Hall, 101 Hilliary Street, Randleman, North Carolina.
Town of Seagrove
Maps are available for inspection at the Seagrove Town Hall, 122 East Main Street, Seagrove, North Carolina.
City of Trinity
Maps are available for inspection at the Trinity City Hall, 6701 NC Highway 62, Trinity, North Carolina.
Randolph County (Unincorporated Areas)
Maps are available for inspection at the Randolph County Planning and Zoning Department, 725 McDowell Road, Asheboro, North Carolina.

(Catalog of Federal Domestic Assistance No. 83.100, “Flood Insurance.”)

Dated: September 6, 2007.
David I. Maurstad,
Federal Insurance Administrator of the National Flood Insurance Program, Department of Homeland Security, Federal Emergency Management Agency.

[FR Doc. E7-18260 Filed 9-14-07; 8:45 am]

BILLING CODE 9110-12-P